DEPARTMENT OF STATE

[Public Notice: 9401]

Culturally Significant Objects Imported for Exhibition Determinations: “Munch and Expressionism” Exhibition

ACTION: Notice, correction.

SUMMARY: On December 16, 2015, notice was published on pages 78283 and 78284 of the Federal Register (80 FR 78283) of determinations made by the Department of State pertaining to certain objects to be imported for temporary display in the exhibition “Munch and Expressionism.” The referenced notice is hereby corrected as to the expected closing date of the exhibition. The exhibition or display of the exhibit objects is at the Neue Galerie New York, New York, New York, from on or about February 18, 2016, until on or about June 13, 2016, and at possible additional exhibitions or venues yet to be determined. I have ordered that Public Notice of this correction be published in the Federal Register.

FOR FURTHER INFORMATION CONTACT: For further information, including a list of the imported objects, contact the Office of Public Diplomacy and Public Affairs in the Office of the Legal Adviser, U.S. Department of State (telephone: 202-632-6471; email: section2459@state.gov). The mailing address is U.S. Department of State, L/PD, SA-5, Suite 5H03, Washington, DC 20522-0505.

Dated: January 5, 2016.
Mark Taplin,
Deputy Assistant Secretary for Policy, Bureau of Educational and Cultural Affairs, Department of State.

[FR Doc. 2016-00331 Filed 1-8-16; 8:45 am]

BILLING CODE 4710-05-P